DEPARTMENT OF TRANSPORTATION

Federal Highway Administration

[Project Number STPD-1069-00 (006)]

Environmental Impact Statement: Washington and Bolivar Counties, MS

AGENCY: Federal Highway Administration (FHWA), Department of Transportation (DOT).

ACTION: Notice of intent.

SUMMARY: The Federal Highway Administration is issuing this notice to advise the public that an Environmental Impact Statement will be prepared for a proposed connector route from the proposed Interstate 69 to U.S. Highway 82 near the City of Greenville, MS in the above referenced counties.

FOR FURTHER INFORMATION CONTACT: Mr. Cecil Vick, Realty Officer/Environmental Coordinator, Federal Highway Administration, 666 North Street, Suite 105, Jackson, MS 39202-3199, Telephone: (601) 965-4217. Contacts at the State and local level, respectively are: Mr. Claiborne Barnwell, Environmental/Location Division Engineer, Mississippi Department of Transportation, P. O. Box 1850, Jackson, MS, 39215-1850, telephone: (601) 359-7920; and Mr. Walter Lyons, District 3 Engineer, Mississippi Department of Transportation, 1240 Highway 49 West, Yazoo City, MS 39194, telephone (662) 746-2513.

SUPPLEMENTARY INFORMATION: The FHWA, in cooperation with the Mississippi Department of Transportation (MDOT) will prepare an Environmental Impact Statement (EIS) for an approximate 20-mile alignment of the I-69 Connector, which will be built to Interstate standards through the Delta region east of the Mississippi River, moving in a generally north-south alignment. This alignment will have logical termini on the southern end at U.S. Highway 82 in Greenville in Washington County and on the northern end at the proposed Interstate 69 near Benoit in Bolivar County.

The purpose of the EIS is to address the transportation, environmental, and safety issues of a connector route to the projected I-69. The connection will also significantly improve mobility and access Statewide and beyond, creating a valuable transportation network. The need will be further heightened due to the increased traffic along the projected I-69. The connector route will spur economic activity for the City of Greenville and surrounding areas in the Mississippi Delta region. The highway is a proposed full control of access facility and appropriate interchanges will be studied at various locations. Alternatives under consideration include (1) taking no action and (2) build alternatives.

The FHWA and MDOT are seeking input as a part of the scoping process to assist in determining and clarifying issues relative to this project. Letters describing the proposed action and soliciting comments will be sent to appropriate Federal, State, and local agencies, Native American tribes, private organizations and citizens who have previously expressed or are known to have interest in this proposal. A formal scoping meeting with Federal, state, and local agencies, and other interested parties will be held in the near future as well as several public involvement meetings held throughout the EIS process. The draft EIS will be available for public and agency review and comment prior to the official public hearing.

To ensure that the full range of issues related to this proposed action are addressed and all significant issues identified, comments and suggestions are invited from all interested parties. Comments or questions concerning this proposed action and the EIS should be directed to the FHWA at the address provided above.

Andrew H. Hughes,
Division Administrator, Federal Highway Administration, Mississippi Division, Jackson, Mississippi.

[FR Doc. E5-6645 Filed 11-28-05; 8:45 am]

BILLING CODE 4910-22-P